DEPARTMENT OF LABOR

Employment and Training Administration

[TA-W-42,241]

Siemens Medical Solutions, Inc., Ultrasound Division Issaquah, WA; Notice of Termination of Investigation

Pursuant to section 221 of the Trade Act of 1974, an investigation was initiated on March 25, 2002 in response to petition filed by the company on behalf of workers at Siemens Medical Solutions, Inc., Ultrasound Division, Issaquah, Washington.

The petitioner has requested that the petition be withdrawn. Consequently, further investigation in this case would serve no purpose, and the investigation has been terminated.

Signed in Washington, DC, this 15th day of November, 2002.
Linda G. Poole,
Certifying Officer, Division of Trade Adjustment Assistance.

[FR Doc. 02-30071 Filed 11-26-02; 8:45 am]

BILLING CODE 4510-30-P